FEDERAL MARITIME COMMISSION

Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011712-002.

Title: CMA CGM/CSG Slot Exchange, Sailing and Cooperative Working Agreement.

Parties: CMA CGM, S.A., China Shipping Container Lines Co. Ltd.

Synopsis: The amendment allows China Shipping to add five vessels to the agreement. The parties request expedited review.

Agreement No.: 201189-001.

Title: Passenger Cruise Wharfage and Dockage Agreement among Broward County, Worldwide Shore Services, Inc. and Carnival Corporation.

Parties: Broward County, Worldwide Shore Services, Inc., Carnival Corporation.

Synopsis: The amendment extends the term of the agreement by one year to September 30, 2010, and makes arrangements for potential berth changes caused by construction. The amendment also updates wharfage and dockage rates and minimum guarantees.

Dated: November 1, 2002.
By Order of the Federal Maritime Commission.
Bryant L. VanBrakle,
Secretary.

[FR Doc. 02-28232 Filed 11-5-02; 8:45 am]

BILLING CODE 6730-01-P